DEPARTMENT OF DEFENSE

Department of the Navy

Notice of Intent To Grant Partially Exclusive Patent License: Bixenta Ventures LLC

AGENCY: Department of the Navy, DOD.

ACTION: Special notice.

SUMMARY: The Department of the Navy hereby gives notice of its intent to grant to Bixenta Ventures LLC, a revocable, nonassignable, partially exclusive license to practice throughout the United States the Government-owned inventions described in U.S. Patent No. 6,873,961, Method And Apparatus For Identifying And Tracking Project Trends; U.S. Patent No. 6,801,655, Spatial Image Processor; U.S. Patent No. 6,785,623, Business To Business Electronic Test Monitoring Information System; U.S. Patent No. 6,768,815, Color Sensor; U.S. Patent No. 6,765,541, Capacitively Shunted Quadrifilar Helix Antenna; U.S. Patent No. 6,735,579, Static Memory Processor; U.S. Patent No. 6,718,816, Monolithic I.C. Implemented Calibration Circuit; U.S. Patent No. 6,718,316, Neural Network Noise Anomaly Recognition System And Method; U.S. Patent No. 6,714,481, System And Method For Active Sonar Signal Detection And Classification; U.S. Patent No. 6,703,917, Resettable Fuse/Circuit Interrupter With Visual Fault Indication; U.S. Patent No. 6,694,049, Multimode Invariant Processor; U.S. Patent No. 6,681,016, System For Transfer Of Secure Mission Data; U.S. Patent No. 6,618,713, Neural Directors; U.S. Patent No. 6,618,324, Track Quality Indicator With Hysteresis; U.S. Patent No. 6,597,634, System And Method For Stochastic Characterization Of Sparse, Four-Dimensional, Underwater-Sound Signals; U.S. Patent No. 6,594,382, Neural Sensors; U.S. Patent No. 6,590,833, Adaptive Cross Correlator; U.S. Patent No. 6,580,314, Demodulation System And Method For Recovering A Signal Of Interest From A Modulated Carrier Sampled At Two Times The Phase Generated Carrier Frequency; U.S. Patent No. 6,577,268, Outboard Radio Signal Test System And Method; U.S. Patent No. 6,571,598, Calibration Circuit For Use With A Differential Input Preamplifier In A Sensor System; U.S. Patent No. 6,566,895, Unbalanced Three Phase Delta Power Measurement Apparatus And Method; U.S. Patent No. 6,560,582, Dynamic Memory Processor; U.S. Patent No. 6,559,632, Method And Apparatus For Determining Linear And Angular Velocity Of A Moving Body; U.S. Patent No. 6,546,045, Method For Communication Using Adaptive Modem; U.S. Patent No. 6,525,990, Target Simulation System And Method; U.S. Patent No. 6,507,827, Adaptive And Intelligent Modem; U.S. Patent No. 6,466,516, System And Apparatus For The Detection Of Randomness In Three Dimensional Time Series Distributions Made Up Of Sparse Data Sets; U.S. Patent No. 6,430,522, Enhanced Model Identification In Signal Processing Using Arbitrary Exponential Functions; U.S. Patent No. 6,430,107, Computerized Auditory Scene Analysis Particularly Suited For Undersea Applications; U.S. Patent No. 6,421,620, Test Data Processing System; U.S. Patent No. 6,411,566, System And Method For Processing An Underwater Acoustic Signal By Identifying Nonlinearity In The Underwater Acoustic Signal; U.S. Patent No. 6,407,720, Capacitively Loaded Quadrifilar Helix Antenna; U.S. Patent No. 6,401,050, Non-Command, Visual Interaction System For Watchstations; U.S. Patent No. 6,400,647, Remote Detection System; U.S. Patent No. 6,397,234, System And Apparatus For The Detection Of Randomness In Time Series Distributions Made Up Of Sparse Data Sets; U.S. Patent No. 6,397,202, System And Method For Monitoring Risk In A System Development Program; U.S. Patent No. 6,392,959, Contact Data Correlation With Reassessment; U.S. Patent No. 6,389,229, Optical Fstop/Resolution Apparatus And Method For Specified Depth-Of-Field; U.S. Patent No. 6,344,834, Low Angle, High Angle Quadrifilar Helix Antenna; U.S. Patent No. 6,304,885, Digital Data Retrieving, Organizing And Display System; U.S. Patent No. 6,304,833, Hypothesis Selection For Evidential Reasoning Systems; U.S. Patent No. 6,105,015, Wavelet-Based Hybrid Neurosystem For Classifying A Signal Or An Image Represented By The Signal In A Data System; U.S. Patent No. 5,814,816, System For Monitoring Surface Stress And Other Conditions In Structures; U.S Patent No. 5,790,758, Neural Network Architecture For Gaussian Components Of A Mixture Density Function; U.S. Patent No. 5,781,460, System And Method For Chaotic Signal Identification; U.S. Patent No. 5,757,974, System And Method For Data Compression; U.S. Patent No. 5,729,171, Preamplifier With Adjustable Input Resistance; U.S. Patent No. 5,728,944, Photoelastic Stress Sensor; U.S. Patent No. 5,712,959, Neural Network Architecture For Non-Gaussian Components Of A Mixture Density Function; and U.S. Patent No. 5,696,700, System And Computer-Implemented Method For Fractal-Dimension Measurement For Target-Motion Analysis Noise Discrimination.

DATES: Anyone wishing to object to the grant of this license has fifteen (15) days from the date of this notice to file written objections along with supporting evidence, if any.

ADDRESSES: Written objections are to be filed with the Naval Undersea Warfare Center Division, Newport, 1176 Howell St., Bldg 990, Code 105, Newport, RI 02841.

FOR FURTHER INFORMATION CONTACT: Dr. Theresa A. Baus, Technology Transfer Manager, Naval Undersea Warfare Center Division, Newport, 1176 Howell St., Bldg 990, Code 105, Newport, RI 02841; telephone 401-832-8728, or e-mail bausta@npt.nuwc.navy.mil.

Authority: 35 U.S.C. 207, 37 CFR part 404.

Dated: April 11, 2006.
Eric McDonald,
Lieutenant Commander, Judge Advocate General's Corps, U.S. Navy, Federal Register Liaison Officer.

[FR Doc. E6-5643 Filed 4-14-06; 8:45 am]

BILLING CODE 3810-FF-P